DEPARTMENT OF THE TREASURY

Submission for OMB Review; Comment Request

July 13, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 21, 2000 to be assured of consideration.

Financial Crimes Enforcement Network (FinCEN)

OMB Number: 1506-0004.

Form Number: IRS Form 4789.

Type of Review: Extension.

Title: Currency Transaction Report.

Description: Banks and other financial institutions must report transactions in cash of more than $10,000 conducted by their customers. The reports are used to investigate financial and other crimes, especially those involving money laundering.

Respondents: Business or other for-profit, Not-for-profit institutions.

Estimated Number of Respondents/Recordkeepers: 180,000.

Estimated Burden Hours Per Respondent/Recordkeeper:

Recordkeeping—5 min.

Response time—19 min.

Frequency of Response: Other (as required).

Estimated Total Reporting/Recordkeeping Burden: 4,000,000 hours.

Clearance Officer: Lois K. Holland (202) 622-1563, Departmental Offices, Room 2110, 1425 New York Avenue, N.W., Washington, DC 20220.

OMB Reviewer: Alexander T. Hunt, (202) 395-7860, Office of Management and Budget, Room 10202, New Executive Office Building, Washington, DC 20503.

Lois K. Holland,
Departmental Reports, Management Officer.

[FR Doc. 00-18319 Filed 7-19-00; 8:45 am]

BILLING CODE 4810-31-P